DEPARTMENT OF THE INTERIOR

National Park Service

[NPS-WASO-NAGPRA-NPS0024977; PPWOCRADN0-PCU00RP14.R50000]

Notice of Intent To Repatriate Cultural Items: Mount Holyoke College Art Museum, South Hadley, MA

AGENCY: National Park Service, Interior.

ACTION: Notice.

SUMMARY: The Mount Holyoke College Art Museum, in consultation with the appropriate Indian Tribes or Native Hawaiian organizations, has determined that the cultural items listed in this notice meet the definition of sacred objects and/or objects of cultural patrimony. Lineal descendants or representatives of any Indian Tribe or Native Hawaiian organization not identified in this notice that wish to claim these cultural items should submit a written request to the Mount Holyoke College Art Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Mount Holyoke College Art Museum at the address in this notice by March 26, 2018.

ADDRESSES: Aaron F. Miller, NAGPRA Coordinator, Mount Holyoke College Art Museum, 50 College Street, South Hadley, MA 01075, telephone (413) 538-3394, email afmiller@mtholyoke.edu.

SUPPLEMENTARY INFORMATION: Notice is here given in accordance with the Native American Graves Protection and Repatriation Act (NAGPRA), 25 U.S.C. 3005, of the intent to repatriate cultural items under the control of the Mount Holyoke College Art Museum that meet the definition of sacred objects and/or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At some time prior to 1892, one cultural item was removed from an unknown location and entered the Mount Holyoke College Art Museum collection. No additional information regarding the date or method of the accession of the cultural item (MH 3.F.A) is available. The sacred object/object of cultural patrimony is a handled earthenware vessel with white slip and red and black pigments.

At some time prior to 1886, one cultural item was removed from an unknown location and given to Mount Holyoke College Art Museum by Mary Pease. The cultural item (MH 4.F.A) is listed in the Seminary's Book of Thanks for that year and the Catalogue of Cabinet of Articles. No additional provenance or accession information is available. The sacred object/object of cultural patrimony is an earthenware vessel decorated with white slip and black pigment.

At an unknown date in the late 19th or early 20th century, one cultural item was removed from an unknown location and acquired by Joseph Allen Skinner through unknown methods. The cultural item (MH SK K.106) was likely accessioned into the Joseph Allen Skinner Museum collection between the museum's opening in 1932 and Mr. Skinner's death in 1946. Mr. Skinner donated his museum collection to Mount Holyoke College, and today it is administered by the Mount Holyoke College Art Museum. The sacred object/object of cultural patrimony is a wood and hide drum.

At some time prior to 1936, one cultural item was removed from an unknown location. The cultural item (MH SK K.B.22) was accessioned into the Joseph Allen Skinner Museum collection on August 30, 1936. No additional information regarding the source or method of acquisition is available. The sacred object/object of cultural patrimony is a handled earthenware vessel with white slip and black pigment.

In January of 2017, representatives from the Pueblo of San Felipe, New Mexico, identified these four cultural items as culturally affiliated with San Felipe and as sacred objects/objects of cultural patrimony. Based on National NAGPRA definitions of sacred objects and objects of cultural patrimony and a general knowledge of these objects incorporating sacred imagery and being used in various types of ceremonies and/or funerary contexts, the claim for repatriation to the Pueblo of San Felipe has merit.

Determinations Made by the Mount Holyoke College Art Museum

Officials of the Mount Holyoke College Art Museum have determined that:

• Pursuant to 25 U.S.C. 3001(3)(C), the four cultural items described above are specific ceremonial objects needed by traditional Native American religious leaders for the practice of traditional Native American religions by their present-day adherents.

• Pursuant to 25 U.S.C. 3001(3)(D), the four cultural items described above have ongoing historical, traditional, or cultural importance central to the Native American group or culture itself, rather than property owned by an individual.

• Pursuant to 25 U.S.C. 3001(2), there is a relationship of shared group identity that can be reasonably traced between the sacred objects and objects of cultural patrimony and the Pueblo of San Felipe, New Mexico.

Additional Requestors and Disposition

Lineal descendants or representatives of any Indian Tribe or Native Hawaiian organization not identified in this notice that wish to claim these cultural items should submit a written request with information in support of the claim to Aaron F. Miller, NAGPRA Coordinator, Mount Holyoke College Art Museum, 50 College Street, South Hadley, MA 01075, telephone (413) 538-3394, email afmiller@mtholyoke.edu, by March 26, 2018. After that date, if no additional claimants have come forward, transfer of control of the sacred object and/or object of cultural patrimony to the Pueblo of San Felipe, New Mexico, may proceed.

The Mount Holyoke College Art Museum is responsible for notifying the Pueblo of San Felipe, New Mexico, that this notice has been published.

Dated: February 2, 2018.
Melanie O'Brien,
Manager, National NAGPRA Program.

[FR Doc. 2018-03630 Filed 2-21-18; 8:45 am]

BILLING CODE 4312-52-P